DEPARTMENT OF HOMELAND SECURITY

Federal Emergency Management Agency

[Docket ID FEMA-2018-0002; Internal Agency Docket No. FEMA-B-1828]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before September 5, 2018.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1828, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation (Acting), Department of Homeland Security, Federal Emergency Management Agency.

Community | Community map repository address
Cook County, Illinois and Incorporated Areas
Project: 17-05-1776S Preliminary Date: October 12, 2017
City of Oak Forest | City Hall, 15440 South Central Avenue, Oak Forest, IL 60452.
Unincorporated Areas of Cook County | Cook County Building and Zoning Department, 69 West Washington, 21st Floor, Chicago, IL 60602.
Village of Alsip | Village Hall, 4500 West 123rd Street, Alsip, IL 60803.
Village of Crestwood | Village Hall, 13840 South Cicero Avenue, Crestwood, IL 60418.
Village of Orland Hills | Village Hall, 16033 South 94th Avenue, Orland Hills, IL 60487.
Village of Orland Park | Village Hall, 14700 South Ravinia Avenue, Orland Park, IL 60462.
Village of Palos Park | Kaptur Administrative Center, 8999 West 123rd Street, Palos Park, IL 60464.
Village of Tinley Park | Village Hall, 16250 South Oak Park Avenue, Tinley Park, IL 60477.
Hamilton County, Indiana and Incorporated Areas
Project: 12-05-8944S Preliminary Date: September 7, 2016
City of Noblesville | Planning Department, 16 South 10th Street, Suite 150, Noblesville, IN 46060.
Town of Cicero | Utilities Office, 150 West Jackson Street, Cicero, IN 46034.
Unincorporated Areas of Hamilton County | Hamilton County Government and Judicial Center, One Hamilton County Square, Noblesville, IN 46060.
Perry County, Indiana and Incorporated Areas
Project: 12-05-8921S Preliminary Date: September 29, 2017
City of Cannelton | Cannelton City Hall, 210 South 8th Street, Cannelton, IN 47520.
City of Tell City | City Hall, 700 Main Street, Tell City, IN 47586.
Unincorporated Areas of Perry County | Perry County Courthouse, 2219 Payne Street, Tell City, IN 47586.
Vanderburgh County, Indiana and Incorporated Areas
Project: 10-05-2681S Preliminary Date: September 29, 2017
City of Evansville | Building Commission Department, Civic Center Complex, 1 Northwest Martin Luther King Jr. Boulevard, Room 310, Evansville, IN 47708.
Unincorporated Areas of Vanderburgh County | Building Commission Department, Civic Center Complex, 1 Northwest Martin Luther King Jr. Boulevard, Room 310, Evansville, IN 47708.
Marion County, Oregon and Incorporated Areas
Project: 17-10-0516S Preliminary Date: February 14, 2017
City of Salem | City Hall, 555 Liberty Street Southeast, Room 325, Salem, OR 97301.
City of Turner | City Hall, 5255 Chicago Street Southeast, Turner, OR 97392.
Unincorporated Areas of Marion County | 555 Court Street Northeast, Salem, OR 97301.

[FR Doc. 2018-12246 Filed 6-6-18; 8:45 am]

BILLING CODE 9110-12-P